NATIONAL SCIENCE FOUNDATION

Notice of Permit Emergency Provision

Under the Antarctic Conservation Act of 1978 (Pub. L. 95-541)

AGENCY: National Science Foundation.

ACTION: Notice of permit emergency provision for hazardous waste stored in Antarctica at a location other than a permanent station for more than 12 months due to an emergency, as specified by § 671.17.

SUMMARY: The Program of Environment Safety and Health in the Division of Polar Programs in accordance with § 671.17, is giving notice that an emergency relating to considerations of human health and safety caused hazardous waste to be stored in a location other than a permanent station for more than 12 months.

Hazardous waste in the form of one 55 gallon drum of waste fuel was packaged for removal from the field camp at the end of the 2012-2013 season. This waste was to be removed during the 2013-2014 summer season.

Due to the October 2013 government shutdown, the National Science Foundation began an orderly shutdown to “caretaker status” (i.e. the protection of life and property only) of the United States Antarctic Program (USAP). Once the government was reopened, it was impossible to support a normal summer field season. The lack of infrastructure available included the means to support a safe operation to recover this waste fuel drum. This was due to the lack of skilled labor and the lack of ability to stage a fuel cache between McMurdo Station and the PIG camp (required due to the extreme distance between McMurdo Station's airfield and the location of the PIG camp).

During the 2014-2105 austral summer season, the priority will be to remove the hazardous waste drum at the PIG field camp to McMurdo Station, where it will be removed from the continent.

FOR FURTHER INFORMATION CONTACT: Dr. Polly A. Penhale at (703) 292-7420.

Nadene G. Kennedy,
Polar Coordination Specialist, Division of Polar Programs.

[FR Doc. 2014-03183 Filed 2-12-14; 8:45 am]

BILLING CODE 7555-01-P